DEPARTMENT OF THE INTERIOR

National Park Service

[NPS-WASO-NAGPRA-NPS0040178; PPWOCRADN0-PCU00RP14.R50000]

Notice of Intended Repatriation: Fine Arts Center at Colorado College, Colorado Springs, CO

AGENCY: National Park Service, Interior.

ACTION: Notice.

SUMMARY: In accordance with the Native American Graves Protection and Repatriation Act (NAGPRA), the Fine Arts Center at Colorado College intends to repatriate a certain cultural item that meets the definition of a sacred object and object of cultural patrimony and that has a cultural affiliation with the Indian Tribes or Native Hawaiian organizations in this notice.

DATES: Repatriation of the cultural item in this notice may occur on or after July 3, 2025.

ADDRESSES: Michael Christiano, Fine Arts Center at Colorado College, 30 W Dale Street Colorado Springs, CO 80903, telephone (719) 477-4311, email NAGPRA@coloradocollege.edu.

SUPPLEMENTARY INFORMATION: This notice is published as part of the National Park Service's administrative responsibilities under NAGPRA. The determinations in this notice are the sole responsibility of the Fine Arts Center at Colorado College, and additional information on the determinations in this notice, including the results of consultation, can be found in the summary or related records. The National Park Service is not responsible for the determinations in this notice.

Abstract of Information Available

A total of one cultural item has been requested for repatriation. The one sacred object/object of cultural patrimony is a hide painting. The painting (TM 514), known as “God the Father”, originated from the Santa Ana de Tamaya Mission Church, in Santa Ana Pueblo, Sandoval County, New Mexico, and is documented in mission inventories dated 1697 to 1712. It was later obtained by Fred Harvey Indian Department agents—most likely through “Harvey anthropologist” Herman Schweizer in the 1930s—and accessioned by the Taylor Museum (now the Fine Arts Center at Colorado College) in 1941-1942. The cultural item is attributed to the Pueblo of Santa Ana. In April 2025, a handheld XRF Spectrometer detected lead and mercury in the paint pigments; no other hazardous substances were identified.

Determinations

The Fine Arts Center at Colorado College has determined that:

• The one sacred object/object of cultural patrimony described in this notice is, according to the Native American traditional knowledge of an Indian Tribe or Native Hawaiian organization, a specific ceremonial object needed by a traditional Native American religious leader for present-day adherents to practice traditional Native American religion, and has ongoing historical, traditional, or cultural importance central to the Native American group, including any constituent sub-group (such as a band, clan, lineage, ceremonial society, or other subdivision).

• There is a reasonable connection between the cultural item described in this notice and the Pueblo of Santa Ana, New Mexico.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after July 3, 2025. If competing requests for repatriation are received, the Fine Arts Center at Colorado College must determine the most appropriate requestor prior to repatriation. Requests for joint repatriation of the cultural item are considered a single request and not competing requests. The Fine Arts Center at Colorado College is responsible for sending a copy of this notice to the Indian Tribes and Native Hawaiian organizations identified in this notice and to any other consulting parties.

Authority: Native American Graves Protection and Repatriation Act, 25 U.S.C. 3004 and the implementing regulations, 43 CFR 10.9.

Dated: May 13, 2025.
Melanie O'Brien,
Manager, National NAGPRA Program.

[FR Doc. 2025-10009 Filed 6-2-25; 8:45 am]

BILLING CODE 4312-52-P